DEPARTMENT OF ENERGY

Savannah River Operations Office; Savannah River Site, High-Level Waste Tank Closure Draft Environmental Impact Statement (DOE/EIS-0303D) Aiken, SC

AGENCY: Savannah River Operations Office, Department of Energy.

ACTION: Notice of public meetings.

SUMMARY: The Department of Energy (DOE) will hold public meetings to discuss issues and gather information related to the Draft Environmental Impact Statement (EIS) on the proposed closing of additional high-level waste (HLW) tanks at the Savannah River Site (SRS). All persons are hereby given notice of the opportunity to attend and participate in these public meetings and to submit comments.

DATES: The Department will hold two public meetings—each with two sessions—to discuss the Draft EIS and receive comments. Dates and locations of those public meetings are listed below:

January 9, 2001,

North Augusta Community Center,

101 Brookside Drive,

North Augusta, South Carolina,

1-3 p.m. and 5-7 p.m. (repeat sessions).

January 11, 2001,

Holiday Inn Coliseum,

630 Assembly Street,

Columbia, South Carolina,

1-3 p.m. and 5-7 p.m. (repeat sessions).

ADDRESSES: Comments on the Draft EIS may be submitted orally or in writing to DOE at the January 2001 public meetings; sent by facsimile or voice mail to 1-800-881-7292; sent by electronic mail to nepa@srs.gov; or mailed to Mr. Andrew Grainger, NEPA Compliance Officer, DOE-Savannah River Operations Office (SR), Building 742-A, Room 185, Aiken, SC 29802 (ATTN: Tank Closure Draft EIS). In preparing the Final EIS, DOE will consider all comments transmitted or postmarked by January 23, 2001. Comments submitted after this date will be considered to the extent practicable.

FOR FURTHER INFORMATION CONTACT: To request information about this Draft EIS and the public meetings, or to be placed on the EIS distribution list, use any of the methods listed in ADDRESSES above. For general information about the DOE NEPA process, contact: Carol Borgstrom, Director, Office of NEPA Policy and Compliance (EH-42), U. S. Department of Energy, 1000 Independence Avenue, SW, Washington, DC 20585-0119, Phone: 202-586-4600, Voice mail: 800-472-2756, Fax: 202-586-7031.

SUPPLEMENTARY INFORMATION: The publication of the Notice of Availability of the Draft EIS in the Federal Register on November 24, 2000, (65 FR 70567) began the public comment period, which extends through January 23, 2001. DOE-SR proposes to close the tank systems to protect human health and the environment. These proposed closures would be in accordance with applicable laws, regulations, DOE Orders, and the previously published document, Industrial Wastewater Closure Plan for F- and H-Area High-Level Waste Tanks Systems, prepared by DOE and approved by the South Carolina Department of Health and Environmental Control.

The Draft EIS evaluates three alternatives regarding closure of the HLW tanks: (1) Clean and Stabilize Tanks, (2) Clean and Remove Tanks, and (3) No Action Alternative. Under the Clean and Stabilize Tanks alternative, DOE is considering three options for tank stabilization: fill with grout (preferred alternative), fill with sand, or fill with saltstone.

Dated: December 12, 2000.
Angelia D. Adams,
Acting Director, Environment, Health, and Safety Evaluation and Performance Division.

[FR Doc. 00-32412 Filed 12-19-00; 8:45 am]

BILLING CODE 6450-01-P